NATIONAL SCIENCE FOUNDATION

Sunshine Act Meeting

The National Science Board's Executive Committee hereby gives notice of the scheduling of a teleconference for the transaction of National Science Board business as follows:

TIME AND DATE: Tuesday, June 29, 2021 from 1:00-2:00 p.m. EDT.

PLACE: This meeting will be held by teleconference through the National Science Foundation.

STATUS: Open

MATTERS TO BE CONSIDERED: Committee Chair's opening remarks; approval of Executive Committee minutes of April 24, 2021; and discuss issues and topics for an agenda of the NSB meeting scheduled for August 3-4, 2021.

CONTACT PERSON FOR MORE INFORMATION: Point of contact for this meeting is: Nirmala Kannankutty, 703/292-8000. To listen to this teleconference, members of the public must send an email to nationalsciencebrd@nsf.gov at least 24 hours prior to the teleconference. The National Science Board Office will send requesters a toll-free dial-in number. Meeting information and updates may be found at http://www.nsf.gov/nsb/notices/.jsp. Please refer to the National Science Board website at www.nsf.gov/nsb for general information.

Chris Blair,
Executive Assistant to the National Science Board Office.

[FR Doc. 2021-13642 Filed 6-22-21; 4:15 pm]

BILLING CODE 7555-01-P